NATIONAL AERONAUTICS AND SPACE ADMINISTRATION

[21-014]

Name of Information Collection: NASA STEM Gateway System Internship Outcome Assessment

AGENCY: National Aeronautics and Space Administration (NASA).

ACTION: Notice of information collection—New Information Collection.

SUMMARY: The National Aeronautics and Space Administration, as part of its continuing effort to reduce paperwork and respondent burden, invites the general public and other Federal agencies to take this opportunity to comment on proposed and/or continuing information collections.

DATES: Comments are due by April 1, 2021.

ADDRESSES: Written comments and recommendations for this information collection should be sent within 30 days of publication of this notice to www.reginfo.gov/public/do/PRAMain.

Find this particular information collection by selecting “Currently under 30-day Review—Open for Public Comments” or by using the search function.

FOR FURTHER INFORMATION CONTACT: Requests for additional information or copies of the information collection instrument(s) and instructions should be directed to Claire Little, NASA Clearance Officer, NASA Headquarters, 300 E Street SW, JF0000, Washington, DC 20546 or email claire.a.little@nasa.gov.

SUPPLEMENTARY INFORMATION:

I. Abstract

The NASA STEM Gateway (NASA's universal registration and data management system) is a comprehensive tool designed to allow learners (i.e., students and educators) to apply to NASA STEM engagement opportunities (e.g., internships, fellowships, challenges, educator professional development, experiential learning activities, etc.) in a single location. NASA personnel manage the selection of applicants and implementation of engagement opportunities within the Universal Registration and Data Management System. Additionally, NASA can deploy an evaluation survey to collect short- and intermediate-outcome data by surveying learners (i.e., students) in the NASA Internship Program. Results from evaluation survey information collected will be used by the NASA Office of STEM Engagement (OSTEM) to establish better defined goals, outcomes, and standards for measuring progress and also to evaluate the outcomes of NASA's Internship Program. This process of improvement will enhance NASA's strategic planning, performance planning, and performance reporting efforts as required by the GPRA Modernization Act of 2010 and Evidence-Based Policymaking Act of 2018.

II. Methods of Collection

Online/Web-based.

III. Data

Title: NASA Universal Registration and Data Management System.

OMB Number:

Type of review: New Collection.

Affected Public: Eligible students or educators, who may voluntarily complete an evaluation survey as a result of applying to or participating in a STEM engagement opportunity (e.g., challenges, educator professional development, experiential learning activities, etc.).

Estimated Number of Respondents: 2,100.

Annual Responses: 2,100.

Estimated Time per Response: 20 minutes.

Estimated Total Annual Burden Hours: 700.

Estimated Total Annual Cost: $12,200.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2021-04239 Filed 3-1-21; 8:45 am]

BILLING CODE 7510-13-P